DEPARTMENT OF HEALTH AND HUMAN SERVICES

Substance Abuse and Mental Health Services Administration

Center for Substance Abuse Prevention; Notice of Meeting

Pursuant to Public Law 92-463, notice is hereby given for the meeting of the Substance Abuse and Mental Health Services Administration's (SAMHSA) Center for Substance Abuse Prevention National Advisory Council (CSAP NAC) on July 11, 2013.

The meeting will be convened for the review, discussion, and evaluation of grant applications. Therefore, the meeting will be closed to the public as determined by the SAMHSA Administrator and in accordance with Title 5 U.S.C. 552b(c)(9)(B) and 5 U.S.C. App. 2, Section 10(d).

Substantive program information, a summary of the meeting, and a roster of committee members may be obtained either by accessing the SAMHSA Committee's Web site after the meeting, http://nac.samhsa.gov/, or by contacting Matthew J. Aumen.

Committee Name: Substance Abuse and Mental Health Services Administration Center for Substance Abuse Prevention, National Advisory Council.

Date/Time/Type: July 11, 2013 from 3 p.m. to 4 p.m. EDT: (CLOSED).

Place: Teleconference.

Contact: Matthew J. Aumen, Designated Federal Officer, SAMHSA CSAP NAC, 1 Choke Cherry Road, Rockville, Maryland 20857, Telephone: 240-276-2419, Fax: 240-276-2430 and Email: matthew.aumen@samhsa.hhs.gov.

Cathy J. Friedman,
Public Health Analyst, Substance Abuse and Mental Health, Services Administration.

[FR Doc. 2013-14882 Filed 6-20-13; 8:45 am]

BILLING CODE 4162-20-P